DEPARTMENT OF THE TREASURY

Office of the Comptroller of the Currency

[Docket No. 04-22]

FEDERAL RESERVE SYSTEM

[Docket No. OP-1215]

FEDERAL DEPOSIT INSURANCE CORPORATION

DEPARTMENT OF THE TREASURY

Office of Thrift Supervision

[No. 2004-48]

Internal Ratings-Based Systems for Retail Credit Risk for Regulatory Capital

Correction

In notice document 04-23771 beginning on page 62748 in the issue of Wednesday, October 27, 2004 make the following correction:

On page 62774, after the heading Example 3b: Portfolio Growth and the Timing of Default Measurements, the table is corrected to read as set forth below.

Annual portfolio growth rate | Total portfolio accounts: Start of year | Total portfolio accounts: End of year | Accounts defaulted by end of year | PD from start of year portfolio | PD from end of year portfolio
−5% | 1,000,000 | 950,000 | 20,000 | 2.0% | 2.1%
−10% | 1,000,000 | 900,000 | 20,000 | 2.0% | 2.2%
5% | 1,000,000 | 1,050,000 | 20,000 | 2.0% | 1.9%
10% | 1,000,000 | 1,100,000 | 20,000 | 2.0% | 1.8%
Note: It is assumed that all 20,000 defaults that occurred during the year were accounts that were part of the portfolio on January 1. The Other Retail risk weight curve was used for this example, and LGD is assumed to be 90% in all four cases.

[FR Doc. C4-23771 Filed 11-12-04; 8:45 am]

BILLING CODE 1505-01-D